DEPARTMENT OF TRANSPORTATION

Federal Aviation Administration

Public Notice for Waiver of Aeronautical Land-Use Assurance; Livingston County Airport, Howell, Michigan

AGENCY: Federal Aviation Administration, DOT.

ACTION: Notice of intent of waiver with respect to land.

SUMMARY: The Federal Aviation Administration (FAA) is considering a proposal to change a portion of the airport from aeronautical use to non-aeronautical use. The four parcels of land designated as Permanent Easement and Right of Way (2.02 acres), Temporary Work Space (5.22 acres), Additional Temporary Work Space (16.80 acres), and Access Road (0.66 acres) together totaling approximately 24.7 acres is for the installation of a pipeline. General current use and present condition is vacant grassland. There are no impacts to the airport by allowing the airport to dispose of the property. Parcel 2 was acquired on 7/15/63, under FAA Project No. 9-20-014-6501, and Parcel 8 was acquired on 4/21/87, under FAA Project No. 3-26-0047-0388.

Approval does not constitute a commitment by the FAA to financially assist in the disposal of the subject airport property nor a determination that all measures covered by the program are eligible for grant-in-aid funding from the FAA. The disposition of proceeds from the disposal of the airport property will be in accordance with the FAA's Policy and Procedures Concerning the Use of Airport Revenue, published in the Federal Register on February 16, 1999.

In accordance with section 47107(h) of title 49, United States Code, this notice is required to be published in the Federal Register 30 days before modifying the land-use assurance that requires the property to be used for an aeronautical purpose. The proposed land designated “Permanent Easement and Right of Way” will be sold in fee as a permanent easement to allow for the installation of an underground pipeline. The proposed land designated as Temporary Work Space, Additional Temporary Work Space, and Access Road will be a long-term lease through the development of an indefinite easement to allow for storage and installation of underground pipeline. The proceeds from the sale of the land will be used for airport improvements and operational expenses at Livingston County Airport.

DATES: Comments must be received on or before January 25, 2001.

FOR FURTHER INFORMATION CONTACT: Gary Migut, Federal Aviation Administration, Great Lakes Region, Detroit Airports District Office, DET ADO-650.2, Willow Run Airport, East, 8820 Beck Road, Belleville, Michigan 48111, (734) 487-7278. Documents reflecting this FAA action may be reviewed at this same location or at Livingston County Airport, 3480 W. Grand River, Howell, Michigan 48843.

SUPPLEMENTARY INFORMATION: Following are legal descriptions of the property:

Permanent Easement and Right of Way

Description of a thirty (30) feet wide permanent easement and right of way, located in section 21, township 3 North, range 4 east of Livingston County, Michigan, and being upon, over, through and across a portion of that certain tract of land conveyed to the County of Livingston as described by the instrument recorded in Liber 1220, page 95 and Liber 428, page 30 of the Office of The Register of Deeds of Livingston County, Michigan, (referred hereinafter to as the “above referenced tract of land”), said thirty (30) feet wide permanent easement and right of way being located 15 feet Northwesterly and northerly of an 15 feet Southeasterly and Southerly of the herein described baseline, said baseline being more particularly described as follows:

Commencing at a monument with a 2-inch aluminum cap found marking the west one quarter (¼) corner of said Section 21; thence South 00° 58′ West, along the west line of said section 21, a distance of 1524.82 feet to the most westerly, southwest corner of the above referenced tract of land; thence South 58° 20′ 21′′ East, along the south line of the above referenced tract of land, a distance of 24.64 feet to a point 25 feet southeasterly of, at right angles to, an existing Lakehead Pipeline Company pipeline and being the point of beginning of the herein described baseline; thence North 34° 05′ 40′′ East, along a line 25 feet southeasterly of a parallel with the said existing pipeline, a distance of 540.22 feet to an angle point of the herein described baseline; thence North 44° 07′ 42′′ East, a distance of 38.34 feet to an angle point of the herein described baseline; thence North 56° 08′ 18′′ East, a distance of 38.69 feet to an angle point of the herein described baseline; thence North 65° 55′ 10′′ East, a distance of 540.32 feet to an angle point of the herein described baseline; thence North 78° 31′ 40′′ East, a distance of 39.06 feet to an angle point of the herein described baseline; thence South 88° 37′ 59′′ East, a distance of 883.73 feet to an angle point of the herein described baseline; thence North 80° 14′ 12′′ East, a distance of 429.39 feet to a point, 25 feet southerly of, at right angles to the said existing pipeline, and an angle point of the herein described baseline; thence South 89° 27′ 26′′ East, along a line 25 feet southerly of an parallel with the said baseline, a distance of 286.74 feet to an angle point of the herein described baseline; thence South 88° 21′ 57′′ East, along a line 25 feet southerly of an parallel with the said existing pipeline, a distance of 141.88 feet of a point in the east line of the above referenced tract of land and being the point of termination of the herein described baseline, from which the most easterly northeast corner of the above referenced tract of land bears, North 00° 56′ 52′′ East, a distance of 50.71 feet, said baseline having a total length of 2938.37 feet or 178.08 rods, said Permanent Easement and Right of Way containing 2.02 acres, more or less.

Temporary Work Space

Being a fifty (50) feet wide strip of land, adjoined to and parallel with the southeasterly and southerly sides of the above described thirty (30) feet wide Permanent Easement and Right of Way, save and except a portion thereof, said portion beginning at a point 203 feet northeasterly of the northeasterly right of way line of Grand River road and extending, a distance of 141 feet in a northeasterly direction, said 141 feet portion shall be reduced to a width of thirty-one (31) feet and a thirty (30) feet wide strip of land, adjoined to and parallel with the northwesterly and northerly sides of the said Permanent Easement and Right of Way, extending or shortening, the side lines of the Temporary Work Spaces, at the beginning and termination of the said Permanent Easement and Right of Way lines, to intersect with the property lines of the above referenced tract of land and/or the northeasterly right of line of Grand River Road and/or the east right way line of Township Road and containing a total of 5.22 acres, more or less. That the portion of the following described land which lies within the lands described in Liber 1220, page 95 and in Liber 428, page 30. Commencing at the point of beginning of the herein described access road, thence Northerly along the centerline of said access road a distance of twenty-five (25) feet, thence Easterly, parallel with the Northerly line of the Northerly most work space described herein to the East property line of the lands described herein, thence Southerly along said East line a distance of twenty-five (25) feet, thence Westerly along the Southerly line of the Northerly most work space described herein to the point of beginning.

Additional Temporary Work Space

Being three (3) tracts of land as herein described, (1) being a forty (40) feet wide strip of land, adjoined to and parallel with southeasterly side of the above described fifty (50) feet wide Temporary Work Space and extending a distance of 101 feet, from a point 106 feet northeasterly of the said northeasterly right of way line of Grand River Road, (2) a fifty (50) feet wide strip of land, adjoined to and parallel with the southerly side of the above described fifty (50) feet wide Temporary Work Space and extending 150 feet westerly from the westerly line of the airplane taxiway, (3) an irregular shaped tract of land described as follows; beginning at the intersection of the northwesterly side of the above described thirty (30) feet wide Temporary Work Space and the east right of way line of Township Road, thence in a northerly direction, along the said east right of way line to the north line of the above referenced tract of land, thence, in an easterly direction, along the said north line, a distance of 1173.91 feet to the west side of an existing road, thence in a southerly direction, parallel with the said west side to a point, 50 feet northerly or an existing parking lot, thence 624 feet in a westerly direction, along a line parallel with the north side of the said parking lot, to a point 50 feet west of the said parking lot, thence 365 feet in a southerly direction, along a line parallel with the west side of said parking lot, to a point 50 feet south of an existing building, thence 115 feet in an easterly direction, along a line parallel with the said existing building, to a point, 20 feet northerly of, at right angles to, an existing Lakehead Pipeline Company pipeline, thence in a southwesterly direction, 20 feet northerly of and parallel with the said existing pipeline, a distance of 436 feet, to a point, 100 feet northerly of, at right angles to, the northerly side of the above described thirty (30) feet wide Temporary Work Space, thence in an easterly direction, parallel with the said northerly side of the above described thirty (30) feet wide Temporary Work Space to a point in the west side of the said existing taxiway, thence in a southerly direction, at right angles to the said northerly side of the above described thirty (30) feet wide Temporary Work Space, to the northerly side of the above described Permanent Easement and Right of Way, thence in a westerly and southwesterly direction, along the said northerly side of the above described Permanent Easement and Right of Way to the point of beginning of the herein described irregular shaped tract of land, save and except that portion which lies within the right of way of a private drive from Township Road, and containing a total of 16.80 acres, more or less.

Access Road

Being a twenty five (25) feet wide access road which lies twelve and one half (12½) feet either side of the herein described centerline, said centerline being described as follows: Beginning at a point in northerly line of the said above thirty (30) feet wide Temporary Work Space, said point lies 953 feet westerly, along the northern side of the above described 30 feet wide Temporary Work Space, from the east line of the above referenced tract of land as described in Liber 428, Page 30, thence northerly 546 feet, westerly of and parallel with the said most northerly west line to a point 121 feet southerly of the north line of the above referenced tract of land; thence westerly along a line, 121 feet southerly of and parallel with the said northerly line, to the east end of the first irregular shaped Temporary Work Space described above and containing 0.66 acre, more or less.

Issued in Belleville, Michigan, December 1, 2000.
Irene R. Porter,
Manager, Detroit Airports District Office Great Lakes Region.

[FR Doc. 00-32523 Filed 12-22-00; 8:45 am]

BILLING CODE 4910-13-M